DEPARTMENT OF HEALTH AND HUMAN SERVICES

Centers for Disease Control and Prevention

[Program Announcement 00129]

Outcome Evaluation of HIV/AIDS Prevention Programs Implemented by Community-Based Organizations; Notice of Availability of Funds

A. Purpose

The Centers for Disease Control and Prevention (CDC) announces a program for competitive fiscal year (FY) 2000 cooperative agreement applications to conduct outcome evaluations of individual-level Health Education and Risk Reduction (HE/RR) HIV prevention interventions implemented by community-based organizations (CBOs). This program addresses the “Healthy People 2010” focus area(s) of Educational and Community-Based Programs, HIV, and Sexually Transmitted Diseases.

Although CDC has supported the development and implementation of community-based HIV prevention programs aiming to reduce sex-related and drug-related risk behaviors, to date these locally implemented community-based and community-developed interventions have not been rigorously assessed. Assessing the effectiveness of these HE/RR interventions is important for improving our understanding of the behavioral impact of these programs, providing useful information for CBO program planners and implementers, and improving future HIV prevention efforts.

The goals of this program announcement are to support evaluations that assess the effectiveness of locally implemented HIV prevention interventions and to provide evaluation resources to CBOs that might not otherwise have the resources or capacity to conduct an outcome evaluation. These funds are intended to support the evaluation, not the intervention. This evaluation will use methods common to rigorous outcome evaluation research (e.g. comparison groups, individual baseline data, cross-sectional surveys, and the ability to track clients over time). In addition, efforts will be made to use methods and designs that integrate both qualitative and quantitative data collection.

B. Eligible Applicants

Limited Competition

Applications may be submitted by community-based organizations who are currently receiving funds to implement individual-level HIV prevention HE/RR interventions. Specifically, these will include those recipients funded under the following program announcements: 00023—Human Immunodeficiency Virus (HIV) Prevention Projects for Community-Based Organizations, 99091—Community-Based HIV Prevention Services and Capacity-Building Assistance to Organizations Serving Gay Men of Color at Risk for HIV Infection, 99092—Community Based Human Immunodeficiency Virus (HIV) Prevention Projects for African Americans, and 99096—Cooperative Agreements for Human Immunodeficiency Virus Prevention Projects for African American Faith-based Organizations.

Note: Public Law 104-65 states that an organization described in section 501(c)(4) of the Internal Revenue Code of 1986 that engages in lobbying activities is not eligible to receive Federal funds constituting an award, grant, cooperative agreement, contract, loan, or any other form.

C. Availability of Funds

Approximately $300,000 is available in FY 2000 to fund approximately three awards. It is anticipated that the average award will be $100,000, ranging from $75,000 to $125,000. It is expected that the awards will begin on or about September 30, 2000 and will be made for a 12-month budget period within a project period of up to 3 years. Funding estimates may change.

Continuation awards within an approved project period will be made on the basis of satisfactory progress as evidenced by required reports, collaborative activities, site visits, goals set forth, and the availability of funds.

Use of Funds

Funds are intended solely to implement the evaluation and not to support the intervention itself. Allocate up to $5000 to ensure your technological capability to conduct evaluation activities.

Funding Preference

In making awards, preference for funding will be given to applicants who target high-risk populations as identified by their local community planning groups (e.g. men who have sex with men, persons of color and other racial or ethnic populations, youth in high risk situations).

D. Program Requirements

In conducting activities to achieve the purpose of this program, the recipient will be responsible for the activities under number 1. (Recipient Activities) and the CDC will be responsible for activities under number 2. (CDC Activities) below.

1. Recipient Activities:

a. Develop a common evaluation methodology including a description of the intervention, the study research questions, sampling strategy, research design, and standardized data collection instruments.

b. Work with CDC to develop and submit application for IRB review and OMB approval as necessary.

c. Recruit study subjects and from existing interventions according to the evaluation design and methodology.

d. Conduct individual baseline and repeat assessments according to the evaluation methodology.

e. Collaborate and share evaluation data and programmatic experience with other grantees to answer specific evaluation research questions and strengthen program implementation.

f. Participate in regularly scheduled group conference calls, attend meetings with the project team, and participate in at least one site visit to each of the other participating CBOs.

g. Present findings and collaborate with other recipients and CDC in presenting findings at national meetings.

2. CDC Activities: To facilitate a successful research collaboration, CDC shall be responsible for conducting the following activities:

a. Assist the recipients as needed, in planning and implementing the evaluation methodology including providing technical guidance in the development of the evaluation methodology which includes data collection instruments, selection of comparison groups, data collection methodologies, and data analysis plans.

b. Conduct site visits as needed, to monitor activities and provide technical assistance when needed.

c. Assist the recipient as needed, in refining and establishing data management systems.

d. Assist as needed, in the data analysis of evaluation research information and in the presentation and publication of analytical findings.

E. Application Content

Competing Applications

Use the information in the Evaluation Criteria section to develop the application content. The application will be evaluated on the criteria listed, so it is important that applicants follow these criteria in their responses. Print all materials double-spaced, in a 12 point or larger font size, on one side of 8½″ by 11″ paper with at least 1″ margins. Number each page. Submit your application unbound and unstapled. The application may not exceed 25 double-spaced pages (appendices are the appropriate location for references, publications, resumes, and other supportive documents).

F. Submission and Deadline

Submit the original and two copies of PHS-5161 (OMB Number 0925-0001) (adhere to the instructions on the Errata Instruction Sheet for PHS 398). Forms are available at the following Internet address: www.cdc.gov/. . . Forms, or in the application kit. On or before September 5, 2000, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each applicant will be evaluated individually against the following criteria by an independent review group appointed by CDC.

1. Title and abstract (Not Scored). The title and abstract should be a clear 1-page summary of the applicants proposal.

2. Program Background (Not Scored). Title of the program, mission statement, years of service to the target population, recruitment venues for intervention participants, service setting(s), current funders, and the funding amounts.

3. Intervention Plan (30 Points). Describe the existing HE/RR intervention to be assessed and how it fits CDC individual-level intervention categorization (see attachment A). Indicate the degree to which the proposed goals and objectives of the intervention are specific, measurable, appropriate, realistic, and time-based, related to the proposed activities, and consistent with the program's long-term goals. Provide a detailed description of the scientific, theoretical, conceptual, or program experience foundation on which the proposed activities are based and the specific behaviors and practices the intervention is designed to promote and prevent (e.g., increase in correct and consistent condom use). Clearly describe the target population(s), and the degree to which the target population reflects the community planning priorities. Clearly indicate how clients will be sufficiently recruited and tracked over time, and how the intervention activities are monitored for quality assurance.

4. Evaluation Capacity (30 points). Clearly describe current data collection, management, and reporting systems including a description of the types of data (variables) collected and how these data are collected. The extent to which current computer systems and Internet capabilities are used in managing data. Indicate areas in which technical assistance is anticipated in designing and implementing the evaluation methodology including staff training needs and refinement of current data management systems.

5. Staffing and Facilities (20 Points). Clearly describe the proposed staffing plan including number of staff (full, part-time, and volunteers) dedicated to the intervention and quality assurance. Specify the division of duties and responsibilities for the intervention and indicate percentages of each staff member's commitment to the intervention and other projects. Demonstrate the degree to which participating staff are qualified and available for carrying out the evaluation activities by providing copies of resumes or job descriptions of existing personnel. Indicate the number of staff with expertise in computer technology or describe personnel that would be hired for conducting the evaluation. Finally, describe the equipment and facilities to be used for the evaluation.

6. Collaboration Experience (20 points). Provide supporting evidence (letters and memorandums of agreement) that the applicant has experience working collaboratively with health departments, the local HIV prevention community planning group, or other community-based organizations to carry out community-based public health interventions, evaluations, or research. Specify the extent to which the applicant has the scientific and programmatic capacity in successfully designing, implementing, and completing similar evaluations, either alone or in partnership with a collaborator. The degree to which the applicant has met the CDC Policy requirements regarding the inclusion of women, ethnic, and racial groups in the proposed research. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

7. Protection of Human Subjects (Not scored) Does the application adequately address the requirements of 45 CFR 46 for the protection of human subjects?

8. Budget (Not Scored). Provide a detailed, line-item budget for carrying out the evaluation activities, including travel expenses for meetings with other recipients and CDC staff and a budget narrative that justifies each line item.

H. Other Requirements

Technical Reporting Requirements

Provide CDC with original plus two copies of:

1. Progress reports quarterly, no more than 30 days after the end of each 3 month period;

2. Financial status report, no more than 90 days after the end of the budget period;

3. Final financial and performance reports, no more than 90 days after the end of the project period.

Send all reports to the Grants Management Specialist identified in the “Where to Obtain Additional Information” section of this announcement.

The following additional requirements are applicable to this program. For a complete description of each, see Attachment 2.

AR-1 Human Subjects Requirements

AR-2 Requirements for Inclusion of Women and Racial and Ethnic Minorities in Research

AR-4 HIV/AIDS Confidentiality Provisions

AR-5 HIV Program Review Panel Requirements

AR-6 Patient Care

AR-9 Paperwork Reduction Act Requirements

AR-10 Smoke-Free Workplace Requirements

AR-11 Healthy People 2010

AR-12 Lobbying Restrictions

I. Authority and Catalog of Federal Domestic Assistance Number

This program is authorized under section 301 and 317(k)(2) of the Public Health Service Act, [42 U.S.C. 241(a) and 247b (a)], as amended. The Catalog of Federal Domestic Assistance number is 93.939.

J. Where To Obtain Additional Information

This and other CDC announcements can be found on the CDC home page Internet address—http://www.cdc.gov Click on “Funding” then “Grants and Cooperative Agreements.” To receive additional written information and to request an application kit, call 1-888-GRANTS4 (1-888-472-6874). You will be asked to leave your name and address and will be instructed to identify the Announcement number of interest.

If you have questions after reviewing the contents of all the documents, business management technical assistance may be obtained from: Roslyn Currington, Grants Management Specialist, Grants Management Branch, Procurement and Grants Office, Centers for Disease Control and Prevention (CDC), Room 3000, 2920 Brandywine Road, Atlanta, GA 30341-4146 telephone (770) 488-2720, Email: rcurrington@cdc.gov.

For program technical assistance, contact Francisco Sy, Behavioral Scientist, Program Evaluation Research Branch, Division of HIV/AIDS Prevention, Intervention, Research, and Support, National Center for HIV, STD, TB Prevention, Centers for Disease Control and Prevention (CDC), Atlanta, GA 30333, Telephone (404) 639-0566, Email: Fsy@cdc.gov.

Dated: July 27, 2000.
John L. Williams,
Director, Procurement and Grants Office, Centers for Disease Control and Prevention (CDC).

[FR Doc. 00-19465 Filed 8-1-00; 8:45 am]

BILLING CODE 4163-19-P